DEPARTMENT OF ENERGY

Federal Energy Regulatory Commission

Combined Notice of Filings

Take notice that the Commission has received the following Natural Gas Pipeline Rate and Refund Report filings:

Filings Instituting Proceedings

Docket Number: PR22-2-000.

Applicants: Southern California Gas Company.

Description: Submits tariff filing per 284.123(b),(e)+(g): Offshore_Delivery_Service_Rate_Revision_October_2021 to be effective 10/1/2021 under PR22-2 Filing.

Filed Date: 10/22/2021.

Accession Number: 20211022-5000.

Comments Due: 5 p.m. ET 11/12/21.

284.123(g) Protests Due: 5 p.m. ET 12/21/21.

Docket Numbers: RP22-67-000.

Applicants: Texas Eastern Transmission, LP.

Description: Compliance filing: TETLP OFO October 2021 Penalty Disbursement Report to be effective N/A.

Filed Date: 10/20/21.

Accession Number: 20211020-5105.

Comment Date: 5 p.m. ET 11/1/21.

Docket Numbers: RP22-68-000.

Applicants: Iroquois Gas Transmission System, L.P.

Description: § 4(d) Rate Filing: 10.21.21 Negotiated Rates—Castleton Commodities Merchant Trading H-4010-89 to be effective 11/1/2021.

Filed Date: 10/21/21.

Accession Number: 20211021-5025.

Comment Date: 5 p.m. ET 11/2/21.

Docket Numbers: RP22-69-000.

Applicants: Iroquois Gas Transmission System, L.P.

Description: § 4(d) Rate Filing: 10.21.21 Negotiated Rates—Castleton Commodities Merchant Trading R-4010-30 to be effective 11/1/2021.

Filed Date: 10/21/21.

Accession Number: 20211021-5026.

Comment Date: 5 p.m. ET 11/2/21.

Docket Numbers: RP22-70-000.

Applicants: Iroquois Gas Transmission System, L.P.

Description: § 4(d) Rate Filing: 10.21.21 Negotiated Rates—Freepoint Commodities LLC R-7250-39 to be effective 11/1/2021.

Filed Date: 10/21/21.

Accession Number: 20211021-5027.

Comment Date: 5 p.m. ET 11/2/21.

Docket Numbers: RP22-71-000.

Applicants: Iroquois Gas Transmission System, L.P.

Description: § 4(d) Rate Filing: 10.21.21 Negotiated Rates—Freepoint Commodities LLC R-7250-40 to be effective 11/1/2021.

Filed Date: 10/21/21.

Accession Number: 20211021-5028.

Comment Date: 5 p.m. ET 11/2/21.

Docket Numbers: RP22-72-000.

Applicants: Egan Hub Storage, LLC.

Description: Compliance filing: Egan Hub Order 587-Z (Docket No. RM96-1-042) Compliance Filing to be effective 6/1/2022.

Filed Date: 10/21/21.

Accession Number: 20211021-5032.

Comment Date: 5 p.m. ET 11/2/21.

Docket Numbers: RP22-73-000.

Applicants: Bobcat Gas Storage.

Description: Compliance filing: BGS Order 587-Z (Docket No. RM96-1-042) Compliance Filing to be effective 6/1/2022.

Filed Date: 10/21/21.

Accession Number: 20211021-5039.

Comment Date: 5 p.m. ET 11/2/21.

Docket Numbers: RP22-74-000.

Applicants: Steckman Ridge, LP.

Description: Compliance filing: SR Order 587-Z (Docket No. RM96-1-042) Compliance Filing to be effective 6/1/2022.

Filed Date: 10/21/21.

Accession Number: 20211021-5052.

Comment Date: 5 p.m. ET 11/2/21.

Docket Numbers: RP22-75-000.

Applicants: Black Hills Shoshone Pipeline, LLC.

Description: Compliance filing: NAESB Compliance Filing—Order No. 587-Z to be effective 11/1/2021.

Filed Date: 10/21/21.

Accession Number: 20211021-5078.

Comment Date: 5 p.m. ET 11/2/21.

Docket Numbers: RP22-76-000.

Applicants: Algonquin Gas Transmission, LLC.

Description: Compliance filing: AGT Order 587-Z (Docket RM96-1-042) Compliance Filing to be effective 6/1/2022.

Filed Date: 10/22/21.

Accession Number: 20211022-5079.

Comment Date: 5 p.m. ET 11/3/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-77-000.

Applicants: Big Sandy Pipeline, LLC.

Description: Compliance filing: Big Sandy Order 587-Z (Docket RM96-1-042) Compliance Filing to be effective 6/1/2022.

Filed Date: 10/22/21.

Accession Number: 20211022-5083.

Comment Date: 5 p.m. ET 11/3/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2021.
Kimberly D. Bose,
Secretary.

[FR Doc. 2021-23479 Filed 10-27-21; 8:45 am]

BILLING CODE 6717-01-P